DEPARTMENT OF AGRICULTURE

Forest Service

36 CFR Part 294

RIN 0596-AC04

Special Areas; Roadless Area Conservation; Applicability to the Tongass National Forest, Alaska

AGENCY: Forest Service, USDA.

ACTION: Notice of proposed rulemaking; extension of comment period.

SUMMARY: Notice is hereby given that the public comment period is being extended for the proposed rule published on July 15, 2003 (68 FR 41865), to amend regulations concerning the roadless area conservation rule published on January 12, 2001 (66 FR 3244) (the roadless rule), to temporarily exempt the Tongass National Forest from prohibitions against timber harvest, road construction, and reconstruction in inventoried roadless areas until a final rule is promulgated as announced by the Forest Service on July 10, 2001, in an advance notice of proposed rulemaking (ANPR) (66 FR 35918). The original comment period for this proposed rule ended August 14, 2003.

In conjunction with this notice, the agency is publishing a separate notice of extension of the comment period for the ANPR to solicit public input concerning the applicability of the roadless rule to both the Tongass and the Chugach National Forests in Alaska, elsewhere in the same part of today's Federal Register. The ANPR was published on July 15, 2003 (68 FR 41864), with an original comment period end date of August 14, 2003.

The agency has received a large volume of responses to the proposed rule thus far; and therefore, has decided to provide the public additional time to comment. In seeking public comment on this proposal to amend the roadless rule, the agency is fulfilling part of the Department's obligations under the June 10, 2003 settlement agreement for State of Alaska v. USDA, while maintaining the ecological values of inventoried roadless areas in the Tongass National Forest. Public comment is invited and will be considered in the development of the final rule.

DATES: Comments must be postmarked by the new deadline of September 2, 2003.

ADDRESSES: Send written comments to: Roadless TNF, Content Analysis Team, USDA Forest Service, P.O. Box 22810, Salt Lake City, UT 84122; by electronic mail to roadlesstnf@fs.fed.us; or by facsimile to (801) 880-2808. If you intend to submit comments in batched e-mails from the same server, please be aware that electronic security safeguards on Forest Service and Department of Agriculture computer systems intended to prevent commercial spamming may limit batched e-mail access. The Forest Service is interested in receiving all comments on this proposed rule, however, so please call (801) 517-1020 to facilitate transfer of comments in batched e-mail messages. Please note that all comments, including names and addresses when provided, will be placed in the record and will be available for public inspection and copying. The agency cannot confirm receipt of comments. Individuals wishing to inspect the comments should call Jody Sutton at (801) 517-1023 to schedule an appointment.

FOR FURTHER INFORMATION CONTACT: In Washington, DC contact: Dave Barone, Planning Specialist, Ecosystem Management Coordination Staff, Forest Service, USDA, (202) 205-1019; and in Juneau, Alaska contact: Jan Lerum, Regional Planner, Forest Service, USDA, (907) 586-8796.

Dated: August 14, 2003.
Dale N. Bosworth,
Chief.

[FR Doc. 03-21209 Filed 8-14-03; 2:29 pm]

BILLING CODE 3410-11-P